NATIONAL CREDIT UNION ADMINISTRATION

Sunshine Act Meeting

TIME AND DATE: 10 a.m., Thursday, March 17, 2011.

PLACE: Board Room, 7th Floor, Room 7047, 1775 Duke Street (All visitors must use Diagonal Road Entrance), Alexandria, VA 22314-3428.

STATUS: Open.

MATTERS TO BE CONSIDERED: 1. Proposed Rule—Parts 700, 701, 702, and 741 of NCUA's Rules and Regulations, Net Worth and Equity Ratio Definitions.

2. Final Rule—Part 704 of NCUA's Rules and Regulations, Corporate Credit Unions, Technical Corrections.

3. Delegations of Authority.

4. Final Rule—Part 702 of NCUA's Rules and Regulations, Definition of Low-Risk Assets.

5. Proposed Rule—Part 741 of NCUA's Rules and Regulations, Interest Rate Risk Policy.

6. Insurance Fund Report.

RECESS: 11:15 a.m.

TIME AND DATE: 11:30 a.m., Thursday, March 17, 2011.

PLACE: Board Room, 7th Floor, Room 7047, 1775 Duke Street, Alexandria, VA 22314-3428.

STATUS: Closed.

MATTERS TO BE CONSIDERED: 1. Insurance Appeals (3). Closed pursuant to exemption (6).

2. Consideration of Supervisory Activities. Closed pursuant to some or all of the following: exemptions (8), (9)(A)(ii) and 9(B).

FOR FURTHER INFORMATION CONTACT: Mary Rupp, Secretary of the Board, Telephone: 703-518-6304

Mary Rupp,
Board Secretary.

[FR Doc. 2011-5984 Filed 3-10-11; 4:15 pm]

BILLING CODE 7535-01-P